DEPARTMENT OF HOUSING AND URBAN DEVELOPMENT

[Docket No. FR-7104-N-12; OMB Control No.: 2577-0029]

60-Day Notice of Proposed Information Collection: Allocation of Operating Fund Grant Under the Operating Fund Formula: Data Collection

AGENCY: Office of the Assistant Secretary for Public and Indian Housing (PIH), HUD.

ACTION: Notice.

SUMMARY: HUD is seeking approval from the Office of Management and Budget (OMB) for the information collection described below. In accordance with the Paperwork Reduction Act, HUD is requesting comments from all interested parties on the proposed collection of information. The purpose of this notice is to allow for 60 days of public comment.

DATES: Comments Due Date: September 22, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Dawn Martin, Program Analyst, Department of Housing and Urban Development, 451 7th Street SW, Room 3180, Washington, DC 20410-5000.

FOR FURTHER INFORMATION CONTACT: Ms. Eva Fulton, Program Analyst, Department of Housing and Urban Development, 451 7th Street SW, Washington, DC 20410; email PIH-PRApubliccomments@hud.gov, telephone (202) 402-5847. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Fulton.

SUPPLEMENTARY INFORMATION: This notice informs the public that HUD is seeking approval from OMB for the information collection described in Section A.

A. Overview of Information Collection

Title of Information Collection: Allocation of Operating Funds under the Operating Fund Formula: Data Collection.

OMB Approval Number: 2577-0029.

Type of Request: Revision of currently approved collection.

Form Number: HUD-52722, HUD-52723, HUD-52719, SF-424, SF-LLL, and SF-425.

Description of the need for the information and proposed use: Public Housing Agencies (PHAs) submits project level budget data annually to HUD field offices. HUD field offices review and accept the data which is used as the basis for obligating the Operating Fund grant. The information is necessary to calculate the eligibility for the operating fund grant under the Operating Funding Program regulations, 24 CFR part 990. HUD provides Operating Funds on a calendar year basis to PHAs to operate and maintain their public housing projects.

HUD collects information for the HUD-52723 and HUD-52722 through web-based forms in the Public Housing Portal. PHAs must submit this data “on regular and timely basis” to HUD “to ensure accurate calculation” of Operating Fund eligible, 24 CFR 990.200(c). HUD requires PHAs complete the SF-424 and SF-LLL to make the following certifications:

By signing this application, I certify under the penalty of perjury (1) to the statements contained in the list of certifications and (2) that the statements herein are true, complete and accurate to the best of my knowledge. I also provide the required assurances and agree to comply with any resulting terms if I accept an award. I am aware that any false, fictitious, or fraudulent statements or claims may subject me to criminal, civil, or administrative penalties. (e.g., 18 U.S.C. 287, 1001, 1010, 1012 and 1014; and 31 U.S.C. 3729 and 3802). I certify the following:

a. In accordance with 24 CFR 990.215, I hereby certify that the public housing agency is in compliance with the annual income reexamination requirements and that rents and utility allowance calculations have been or will be adjusted in accordance with current HUD requirements and regulations.

b. If applicable—In accordance with § 213 of Title II of Division L of the Consolidated Appropriations Act, 2024, Public Law 118-42 (approved March 9, 2024) and if subsequent acts containing the same provisions, I hereby certify that the public housing agency has 400 or fewer units and is implementing asset management.

c. If applicable—In accordance with 24 CFR 990.255 through 990.290—Compliance of Asset Management Requirements, I hereby certify that the public housing agency has 250 units or more and is in compliance with asset management. I understand that in accordance with 24 CFR 990.190(f), PHAs that are not in compliance with asset management will forfeit the asset management fee.

d. I certify that the amount of Operating Subsidy stated in this form is an estimate based on the Operating Subsidy eligibility for the public housing agency from the previous funding year.

e. I acknowledge that HUD obligates Operating Subsidy in the beginning of the funding year based on an estimate of Operating Subsidy eligibility for the public housing agency and that HUD calculates the remaining obligations on cumulative basis based on the Operating Fund Formula in accordance with 24 CFR 990 and data collected in the form HUD-52723 and HUD updates eligibility throughout the funding year.

f. I agree that the public housing agency shall not draw down any excess funds when the estimated eligibility exceeds any project's actual eligibility and notify the appropriate HUD office; and that HUD offsets, de-obligates, or require repayment of any Operating Subsidies for any project deemed ineligible or any project overfunded based on incorrect estimates.

g. In accordance with Section 235 of the Department of Housing and Urban Development Appropriation Act of 2020 I hereby certify that the PHA is in compliance with the Annual Contributions Contract as was in effect on December 31, 2017.

h. Waste, Fraud, Abuse, and Whistleblower Protections. Any person who becomes aware of the existence or apparent existence of fraud, waste or abuse of any HUD award must report such incidents to both the HUD official responsible for the award and to HUD's Office of Inspector General (OIG). HUD OIG is available to receive allegations of fraud, waste, and abuse related to HUD programs via its hotline number (1-800-347-3735) and its online hotline form. You must comply with 41 U.S.C. 4712, which includes informing your employees in writing of their rights and remedies, in the predominant native language of the workforce. Under 41 U.S.C. 4712, employees of a government contractor, subcontractor, grantee, and subgrantee—as well as a personal services contractor—who make a protected disclosure about a Federal grant or contract cannot be discharged, demoted, or otherwise discriminated against as long as they reasonably believe the information they disclose is evidence of:

1. Gross mismanagement of a Federal contract or grant;

2. Waste of Federal funds;

3. Abuse of authority relating to a Federal contract or grant;

4. Substantial and specific danger to public health and safety; or

5. Violations of law, rule, or regulation related to a Federal contract or grant.

i. I agree that the public housing agency:

1. Shall not use grant funds to promote “gender ideology,” as defined in Executive Order (E.O.) 14168, Defending Women from Gender Ideology Extremism and Restoring Biological Truth to the Federal Government;

2. Is in compliance, in all respects, with all applicable Federal anti-discrimination laws is material to the U.S. Government's payment decisions for purposes of section 3729(b)(4) of title 31, United States Code;

3. Certifies that it does not operate any programs that violate any applicable Federal anti-discrimination laws, including Title VI of the Civil Rights Act of 1964;

4. Shall not use any grant funds to fund or promote elective abortions, as required by E.O. 14182, Enforcing the Hyde Amendment; and that

5. Notwithstanding anything in the NOFO or Application, this Grant shall not be governed by Executive Orders revoked by E.O. 14154, including E.O. 14008, or NOFO requirements implementing Executive Orders that have been revoked. NOFO requirements implementing Executive Orders that have been revoked.

j. I agree that the public housing agency must administer its grant in accordance with all applicable immigration restrictions and requirements, including the eligibility and verification requirements that apply under title IV of the Personal Responsibility and Work Opportunity Reconciliation Act of 1996, as amended (8 U.S.C. 1601-1646) (PRWORA) and any applicable requirements that HUD, the Attorney General, or the U.S. Citizenship and Immigration Services may establish from time to time to comply with PRWORA, Executive Order 14218, or other Executive Orders or immigration laws.

k. If applicable—No state or unit of general local government that receives funding under this grant may use that funding in a manner that by design or effect facilitates the subsidization or promotion of illegal immigration or abets policies that seek to shield illegal aliens from deportation.

l. Unless excepted by PRWORA, I agree that the public housing agency must use SAVE, or an equivalent verification system approved by the Federal government, to prevent any Federal public benefit from being provided to an ineligible alien who entered the United States illegally or is otherwise unlawfully present in the United States.

Respondents: Public Housing Agencies.

The estimated burden hours and the cost for the respondents are below:

Information collection | Number of respondents | Frequency of response | Responses per annum | Burden hour per response | Annual burden hours | Hourly cost per response | Annual cost
HUD-52723 | 6,000 | 1.167 | 1.167 | 0.33 | 2,310 | $48.12 | $111,157.20
HUD-52722 | 6,000 | 1.167 | 1.167 | 0.42 | 2,940 | 48.12 | 141,472.80
HUD-52719 | 30 | 1 | 1 | 1 | 30 | 48.12 | 1,443,60
Appeals (a) | 3 | 1 | 1 | 9 | 27 | 48.12 | 1,299.24
Appeals (c)—PHA | 10 | 1 | 1 | 12 | 120 | 48.12 | 5,774.40
Appeals (c)—Contractor. | 10 | 1 | 1 | 55 | 550 | 100.00 | 55,000.00
Appeals (d) | 50 | 1 | 1 | 20 | 1000 | 48.12 | 48,120.00
Appeals (e)—PHA | 3 | 1 | 1 | 20 | 60 | 48.12 | 2,887.20
Appeals (e)—Contractor. | 3 | 1 | 1 | 55 | 165 | 100.00 | 16,500.00
SF-424 | 0 | 0 | 0 | 0 | 0 | 0 | 0
SF-LLL | 0 | 0 | 0 | 0 | 0 | 0 | 0
SF-425 | 0 | 0 | 0 | 0 | 0 | 0 | 0
Total | 12,109 | ~1.17 | ~1.17 | ~0.54 | 7,202 | ~53.27 | 383,654

The estimated annualized cost to respondents is based on the latest available (May 2024) Bureau of Labor Statistics' national hourly mean rates for Financial Specialists (Occupation Code: 13-2000) which is $48.12 per hour. (https://data.bls.gov/oes/#/industry/000000). Required by 24 CFR part 990.250 (b)(1) and (2), PHAs must submit an independent cost assessment of its developments with their appeal for (c) appeals for specific local conditions or (e) appeals to substitute actual project cost data (see Exhibit D). HUD estimates PHAs submit 13 appeals annually that require the PHA to include independent cost assessment. HUD estimates the average time to conduct an independent cost assessment is 55 hours and the average nationwide rate is $100.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including the use of appropriate automated collection techniques or other forms of information technology, e.g., permitting electronic submission of responses.

HUD encourages interested parties to submit comments in response to these questions.

C. Authority

Section 2 of the Paperwork Reduction Act of 1995, 44 U.S.C. 3507.

Laura Kunkel,
Acting Director, Office of Policy, Programs, and Legislative Initiatives.

[FR Doc. 2025-13903 Filed 7-23-25; 8:45 am]

BILLING CODE 4210-67-P